DEPARTMENT OF ENERGY

Federal Energy Regulatory Commission

[Docket No. CP16-13-000]

Equitrans, L.P.; Notice of Request for Extension of Time

Take notice that on July 10, 2020, Equitrans L.P. (Equitrans) requested that the Federal Energy Regulatory Commission (Commission) grant an extension of time, until December 1, 2020, to complete the complete the abandonment of the Pratt Compressor Station facilities located in Greene County, Pennsylvania, as authorized as part of the Equitrans Expansion Project in the October 13, 2017 Order Issuing Certificates and Granting Abandonment ¹ (October 13 Order).

¹ Equitrans, L.P., 162 FERC ¶ 61,191 at P 5 (2018) (Granting Equitrans' requested clarification that the Pratt Compressor Station facilities must be abandoned within one year of placing the Redhook Compressor Station into service).

On July 31, 2019, Equitrans placed the Redhook Compressor Station and the H-305 and H-316 pipelines into service as part of the Project. On August 29, 2019, Equitrans placed the M-80 and H-158 pipelines into service. The old Pratt Compressor Station facilities have since been decommissioned, dismantled, and are no longer available for service. The remaining Project facilities (Webster Interconnect, Mobley Tap, and H-319 Pipeline in Wetzel County, West Virginia) are complete and awaiting service. Equitrans has not requested authorization to commence service on those facilities because they are directly associated with natural gas deliveries to the Mountain Valley Pipeline Project.

On March 5, 2020, the Commission granted Equitrans' request for a variance to abandon-in-place several existing facilities that were approved for removal at the Pratt Compressor Station in order to reduce ground disturbance. Specifically, the variance permits Equitrans to abandon-in-place the H-117 pipeline receiver; the D-497 pipeline pig launcher and associated appurtenances; five buildings, including storage buildings, an office building, an electronics building, and the main water service building; a garage; and the foundation floor of the building housing the old Pratt compressor units.

Equitrans has experienced delays related to extra safety precautions taken due to the age of the building and equipment, safeguards taken with removal of the compressor building to ensure safety in direct vicinity of remaining equipment at the station, and the inefficiencies directly related to the newly developed processes as it relates to the COVID-19 pandemic. To date, the following facilities remain to be removed from the site: (a) 2,200 linear feet of piping; (b) six vessels; (c) five coolers; (d) compressor building basement; and (e) five compressors. Thus, Equitrans seeks additional time until December 1, 2020 to complete this work.

This notice establishes a 15-calendar day intervention and comment period deadline. Any person wishing to comment on Equitrans' request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on July 29, 2020.

Dated: July 14, 2020.
Kimberly D. Bose,
Secretary.

[FR Doc. 2020-15627 Filed 7-17-20; 8:45 am]

BILLING CODE 6717-01-P